DEPARTMENT OF COMMERCE

National Oceanic and Atmospheric Administration

50 CFR Part 648

[Docket No. 070717340-8451-02]

RIN 0648-AP60

Fisheries of the Northeastern United States; Atlantic Mackerel, Squid, and Butterfish Fisheries; Amendment 9; Correction

AGENCY: National Marine Fisheries Service (NMFS), National Oceanic and Atmospheric Administration (NOAA), Commerce.

ACTION: Final rule; correction.

SUMMARY: On July 1, 2008, a final rule to implement Amendment 9 to the Atlantic Mackerel, Squid, and Butterfish (MSB) Fishery Management Plan (FMP) was published in the Federal Register. The final rule was published with one error. Instead of revising the introductory text for the regulations describing squid and butterfish moratorium permits, the amendatory instructions of the final rule inadvertently revised the entire section. This document corrects that error.

DATES: Effective July 31, 2008.

FOR FURTHER INFORMATION CONTACT: Carrie Nordeen, Fishery Policy Analyst, (978) 281-9272, fax (978) 281-9135.

SUPPLEMENTARY INFORMATION:

Background

On July 1, 2008 (73 FR 37382 ), a final rule was published implementing Amendment 9 to the MSB FMP (Amendment 9). Amendment 9 established multi-year specifications for all four species managed under the FMP (mackerel, butterfish, Illex squid, and Loligo squid) for up to 3 years; extended the moratorium on entry into the Illex squid fishery, without a sunset provision; adopted biological reference points recommended by the Stock Assessment Review Committee for Loligo squid; designated essential fish habitat (EFH) for Loligo squid eggs based on best available scientific information; and prohibited bottom trawling by MSB-permitted vessels in Lydonia and Oceanographer Canyons. The amendatory instructions for the final rule implementing Amendment 9 contained an error. Instead of revising the introductory text for the regulations describing squid and butterfish moratorium permits, the amendatory instructions for the final rule inadvertently revised the entire section. This document corrects this error.

Correction

Accordingly, the final rule, published on July 1, 2008, at 73 FR 37382, to be effective July 31, 2008, is corrected as follows:

1. On page 37388, in column 1, correct the second amendatory instruction to read: “2. In § 648.4, the introductory text for paragraph (a)(5)(i) is revised to read as follows:''

Dated: July 25, 2008.
Samuel D. Rauch III,
Deputy Assistant Administrator for Regulatory Programs, National Marine Fisheries Service.

[FR Doc. E8-17468 Filed 7-29-08; 8:45 am]

BILLING CODE 3510-22-S